DEPARTMENT OF THE INTERIOR

U.S. Geological Survey

Request for Public Comments on Information Collection Submitted to the Office of Management and Budget for Review Under the Paperwork Reduction Act

A request extending the collection of information listed below has been submitted to the Office of Management and Budget for approval under the provisions of the Paperwork Reduction Act (44 U.S.C. Chapter 35). Copies of the proposed collection of information and related forms may be obtained by contacting the USGS Clearance Officer at the phone number listed below. OMB has up to 60 days to approve or disapprove the information collection but may respond after 30 days; therefore, public comments should be submitted to OMB within 30 days in order to assure their maximum consideration. Address your comments and suggestions on the information collection requirement by either fax (202) 395-6566 or e-mail (oira_docket@omb.eop.gov) to the Office of Information and Regulatory Affairs, Office of Management and Budget, Attention: Desk Officer for the Department of the Interior (OMB Control Number 1028-0065). Send copies of your comments and suggestions to the USGS Clearance Officer, U.S. Geological Survey, 807 National Center, Reston, VA 20192, or e-mail (jcordyac@usgs.gov).

As required by OMB regulations at CFR 1320.8(d)(1), the U.S. Geological Survey solicits specific public comments regarding the proposed information collection as to:

1. Whether the collection of information is necessary for the proper performance of the functions of the USGS, including whether the information will have practical utility;

2. The accuracy of the USGS estimate of the burden of the collection of information, including the validity of the methodology and assumptions used;

3. The utility, quality, and clarity of the information to be collected; and,

4. How to minimize the burden of the collection of information on those who are to respond, including the use of appropriate automated electronic, mechanical, or other forms of information technology.

Title: Production Estimate, Construction Sand and Gravel and Crushed and Broken Stone.

Current OMB approval number: 1028-0065.

Abstract: This collection is needed to provide data on mineral production for annual reports published by commodity for use by Government agencies, industry, education programs, and the general public. One publication is the “Mineral Commodity Summaries,” the first preliminary publication to furnish estimates covering the previous year's nonfuel mineral industry.

Bureau form number: 9-4042-A and 9-4124-A.

Frequency: Quarterly and Annually.

Description of respondents: Producers of industrial minerals and metals.

Annual responses: 3,269.

Annual burden hours: 707.

Bureau clearance officer: John E. Cordyack, Jr., (703) 648-7313.

John H. DeYoung, Jr.,
Chief Scientist, Minerals Information Team.

[FR Doc. 04-3651 Filed 2-18-04; 8:45 am]

BILLING CODE 4310-Y7-M